DEPARTMENT OF TRANSPORTATION

Federal Aviation Administration

14 CFR Part 95

[Docket No. 31066; Amdt. No. 525]

IFR Altitudes; Miscellaneous Amendments

AGENCY: Federal Aviation Administration (FAA), DOT.

ACTION: Final rule

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, March 31, 2016.

FOR FURTHER INFORMATION CONTACT: Richard A. Dunham, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK. 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on February 26, 2016.
John Duncan,
Director, Flight Standards Service.

Adoption of the Amendment

Accordingly, pursuant to the authority delegated to me by the Administrator, part 95 of the Federal Aviation Regulations (14 CFR part 95) is amended as follows effective at 0901 UTC, March 10, 2016.

1. The authority citation for part 95 continues to read as follows:

Authority: 49 U.S.C. 106(g), 40103, 40106, 40113, 40114, 40120, 44502, 44514, 44719, 44721.

2. Part 95 is amended to read as follows:

Revisions to IFR Altitudes & Changeover Point Amendment 525 Effective Date March 31, 2016

From | To | MEA | MAA
§ 95.4000 High Altitude RNAV Routes
§ 95.4070 RNAV Route Q70 Is Added To Read
Hailo, CA WP | Las Vegas, NV VORTAC | *18000 | 45000
*18000-GNSS MEA
Las Vegas, NV VORTAC | Ifeye, NV WP | *20000 | 45000
*18000-GNSS MEA
Ifeye, NV WP | Blipp, NV WP | *20000 | 45000
*18000-GNSS MEA
Blipp, NV WP | Eevun, UT WP | *20000 | 45000
*18000-GNSS MEA
Eevun, UT WP | Blobb, UT WP | *20000 | 45000
*18000-GNSS MEA
Blobb, UT WP | Bawer, UT WP | *22000 | 45000
*18000-GNSS MEA
Bawer, UT WP | Sakes, UT FIX | *22000 | 45000
*18000-GNSS MEA
§ 95.4073 RNAV Route Q73 Is Added To Read
Momar, CA FIX | Cabic, CA WP | *18000 | 45000
*GNSS Required
Cabic, CA WP | Chadt, CA WP | *18000 | 45000
*GNSS Required
Chadt, CA WP | Lvell, CA WP | *18000 | 45000
*GNSS Required
Lvell, CA WP | Hakmn, NV WP | *18000 | 45000
*GNSS Required
Hakmn, NV WP | Zzyzx, NV WP | *18000 | 45000
*GNSS Required
ZZYZX, NV WP | Lakrr, NV WP | *18000 | 45000
*GNSS Required
Lakrr, NV WP | Guntr, AZ WP | *18000 | 45000
*GNSS Required
Guntr, AZ WP | Zainy, AZ WP | *18000 | 45000
*GNSS Required
Zainy, AZ WP | Eevun, UT WP | *18000 | 45000
*GNSS Required
Eevun, UT WP | Winen, UT WP | *18000 | 45000
*GNSS Required
Winen, UT WP | Crito, NV WP | *18000 | 45000
*GNSS Required
Crito, NV WP | Broph, ID WP | *18000 | 45000
*GNSS Required
Broph, ID WP | Derso, ID FIX | *18000 | 45000
*GNSS Required
Derso, ID FIX | Sawtt, ID WP | *18000 | 45000
*GNSS Required
Sawtt, ID WP | Zatip, ID FIX | *18000 | 45000
*GNSS Required
Zatip, ID FIX | Cordu, ID FIX | *18000 | 45000
*GNSS Required
§ 95.4074 RNAV Route Q74 Is Added To Read
Natee, NV WP | Boulder City, NV VORTAC | *18000 | 45000
*18000-GNSS MEA
Boulder City, NV VORTAC | Zainy, AZ WP | *20000 | 45000
*18000-GNSS MEA
Zainy, AZ WP | Fizzl, AZ WP | *20000 | 45000
*18000-GNSS MEA
Fizzl, AZ WP | Gardd, UT WP | *20000 | 45000
*18000-GNSS MEA
Gardd, UT WP | Deann, UT WP | *20000 | 45000
*18000-GNSS MEA
§ 95.4078 RNAV Route Q78 Is Added To Read
Marue, NV WP | Duggn, AZ WP | *24000 | 45000
*18000-GNSS MEA
Duggn, AZ WP | Toadd, AZ WP | *24000 | 45000
*18000-GNSS MEA
§ 95.4086 RNAV Route Q86 Is Added To Read
Ttrue, AZ WP | Yorrk, AZ WP | *18000 | 45000
*18000-GNSS MEA
Yorrk, AZ WP | Schls, AZ WP | *20000 | 45000
*18000-GNSS MEA
Schls, AZ WP | Cutro, AZ WP | *20000 | 45000
*18000-GNSS MEA
Cutro, AZ WP | Valeq, AZ WP | *20000 | 45000
*18000-GNSS MEA
Valeq, AZ WP | Plndl, AZ WP | *20000 | 45000
*18000-GNSS MEA
§ 95.4088 RNAV Route Q88 Is Added To Read
Hakmn, NV WP | Zzyzx, NV WP | *19000 | 45000
*18000-GNSS MEA
Zzyzx, NV WP | Lakrr, NV WP | *22000 | 45000
*18000-GNSS MEA
Lakrr, NV WP | Nootn, AZ FIX | *22000 | 45000
*18000-GNSS MEA
Nootn, AZ Fix | Gardd, UT WP | *22000 | 45000
*18000-GNSS MEA
Gardd, UT WP | Verkn, UT WP | *22000 | 45000
*18000-GNSS MEA
Verkn, UT WP | Promt, UT WP | *22000 | 45000
*18000-GNSS MEA
Promt, UT WP | Chesz, UT WP | *22000 | 45000
*18000-GNSS MEA
§ 95.4090 RNAV Route Q90 Is Added To Read
Dnero, CA WP | Esgee, NV WP | *20000 | 45000
*18000-GNSS MEA
Esgee, NV WP | Areaf, AZ WP | *20000 | 45000
*18000-GNSS MEA
Areaf, AZ WP | Jasse, AZ WP | *20000 | 45000
*18000-GNSS MEA
§ 95.4094 RNAV Route Q94 Is Added To Read
Welum, NV WP | Mnggo, AZ WP | *22000 | 45000
*18000-GNSS MEA
Mnggo, AZ WP | Rooll, AZ WP | *22000 | 45000
*18000-GNSS MEA
§ 95.4096 RNAV Route Q96 Is Added To Read
Purse, NV WP | Doddl, NV WP | *22000 | 45000
*18000-GNSS MEA
Doddl, NV WP | Bfune, AZ WP | *22000 | 45000
*18000-GNSS MEA
Bfune, AZ WP | Guntr, AZ WP | *18000 | 45000
*18000-GNSS MEA
Guntr, AZ WP | Piixr, AZ WP | *22000 | 45000
*18000-GNSS MEA
Piixr, AZ WP | Fizzl, AZ WP | *22000 | 45000
*18000-GNSS MEA
Fizzl, AZ WP | Bawer, UT WP | *22000 | 45000
*18000-GNSS MEA
Bawer, UT WP | Roccy, UT WP | *22000 | 45000
*18000-GNSS MEA
Roccy, UT WP | Saraf, UT WP | *22000 | 45000
*18000-GNSS MEA
Saraf, UT WP | Kimmr, UT WP | *22000 | 45000
*18000-GNSS MEA
§ 95.4098 RNAV Route Q98 Is Added To Read
Hakmn, NV WP | Zzyzx, NV WP | *18000 | 45000
*18000-GNSS MEA
Zzyzx, NV WP | Lakrr, NV WP | *18000 | 45000
*18000-GNSS MEA
Lakrr, NV WP | Duzit, AZ WP | *20000 | 45000
*18000-GNSS MEA
Duzit, AZ WP | Eeezy, AZ WP | *24000 | 45000
*18000-GNSS MEA
Eeezy, AZ WP | Peewe, AZ WP | *24000 | 45000
*18000-GNSS MEA
§ 95.4114 RNAV Route Q114 Is Added To Read
Natee, NV WP | Boulder City, NV Vortac | *18000 | 45000
*18000-GNSS MEA
Boulder City, NV Vortac | Zainy, AZ WP | *20000 | 45000
*18000-GNSS MEA
Zainy, AZ WP | Ahoww, UT WP | *20000 | 45000
*18000-GNSS MEA
Ahoww, UT WP | Bawer, UT WP | *24000 | 45000
*18000-GNSS MEA
Bawer, UT WP | Buggg, UT WP | *24000 | 45000
*18000-GNSS MEA
§ 95.4168 RNAV Route Q168 Is Added To Read
Fnnda, CA WP | Shiva, AZ WP | *21000 | 45000
*18000-GNSS MEA
Shiva, AZ WP | Krina, AZ WP | *21000 | 45000
*18000-GNSS MEA
Krina, AZ WP | Jasse, AZ WP | *21000 | 45000
*18000-GNSS MEA
§ 95.4842 RNAV Route Q842 Is Added To Read
Beale, NV WP | Blipp, NV WP | *18000 | 45000
*GNSS Required
Blipp, NV WP | Winen, UT WP | *18000 | 45000
*GNSS Required
Winen, UT WP | Tabll, UT WP | *18000 | 45000
*GNSS Required
Tabll, UT WP | Picho, UT WP | *18000 | 45000
*GNSS Required
Picho, UT WP | Patio, UT WP | *18000 | 45000
*GNSS Required
Patio, UT WP | Proxi, UT WP | *18000 | 45000
*GNSS Required
Proxi, UT WP | Vaane, MT WP | *18000 | 45000
*GNSS Required
Vaane, MT WP | Keeta, MT WP | *18000 | 45000
*GNSS Required
Keeta, MT WP | U.S. Canadian Border | *18000 | 45000
*GNSS Required

From | To | MEA
§ 95.6001 Victor Routes—U.S.
§ 95.6248 VOR Federal Airway V196 Is Amended To Read in Part
Saranac Lake, NY VOR/DME | Rigid, NY FIX | 5000
Is Amended To Delete
Rigid, NY FIX | Plattsburgh, NY VORTAC | 5000
§ 95.6248 VOR Federal Airway V248 Is Amended To Read in Part
Avenal, CA Vortac | Scrap, CA FIX | *4000
*3200-Moca
Scrap, CA FIX | Shafter, CA VORTAC
| W BND | *4000
| E BND | *3000
*3000-Moca
§ 95.6248 VOR Federal Airway V489 Is Amended To Delete
Glens Falls, NY VORTAC | *Fairb, NY FIX | 6000
*8000-MRA
Fairb, NY FIX | Leafy, NY FIX | *8000
*6000-GNSS MEA
Leafy, NY FIX | Keese, NY FIX | 5200
Keese, NY FIX | Plattsburgh, NY VORTAC | 3300

From | To | MEA | MAA
§ 95.7001 Jet Routes
§ 95.7477 Jet Route J6 Is Amended To Delete
Albany, NY VORTAC | Plattsburgh, NY VORTAC | 18000 | 45000
§ 95.7477 Jet Route J97 Is Amended To Delete
Boston, MA VOR/DME | Plattsburgh, NY VORTAC | 18000 | 45000
§ 95.7477 Jet Route J222 Is Amended To Delete
Cambridge, NY VOR/DME | Plattsburgh, NY VORTAC | 18000 | 45000
§ 95.7477 Jet Route J477 Is Amended To Delete
Glasgow, MT VOR/DME | U.S. Canadian Border | 18000 | 45000

From | To | Changeover Points: Distance | Changeover Points: From
§ 95.8003 VOR Federal Airway Changeover Point Airway Segment
V489 Is Amended To Delete Changeover Point
Glens Falls, NY VORTAC | Plattsburgh, NY VORTAC | 21 | Glens Falls

[FR Doc. 2016-04855 Filed 3-4-16; 8:45 am]

BILLING CODE 4910-13-P